DEPARTMENT OF COMMERCE

International Trade Administration

[A-580-836]

Certain Cut-to-Length Carbon-Quality Steel Plate Products From the Republic of Korea: Notice of Initiation and Preliminary Results of Antidumping Duty Changed Circumstances Review

AGENCY: Enforcement and Compliance, International Trade Administration, Department of Commerce.

SUMMARY: In response to a request for a changed circumstances review (CCR), the U.S. Department of Commerce (Commerce) is initiating a CCR of the antidumping duty (AD) order on certain cut-to-length carbon-quality steel plate products (CTL plate) from the Republic of Korea (Korea). Additionally, Commerce preliminarily determines that the post-corporate reorganization Dongkuk Steel Mill Co., Ltd. (Dongkuk Steel) is the successor-in-interest to the pre-reorganization Dongkuk Steel. Interested parties are invited to comment on these preliminary results.

DATES: Applicable August 30, 2023.

FOR FURTHER INFORMATION CONTACT: Christopher Williams, AD/CVD Operations, Office I, Enforcement and Compliance, International Trade Administration, U.S. Department of Commerce, 1401 Constitution Avenue NW, Washington, DC 20230; telephone: (202) 482-4243.

SUPPLEMENTARY INFORMATION:

Background

On February 10, 2000, Commerce published the AD order on CTL plate from Korea in the Federal Register.¹ On July 14, 2023, the new Dongkuk Steel requested that Commerce conduct an expedited CCR of the Order, in accordance with section 751(b) of the Tariff Act of 1930, as amended (the Act), 19 CFR 351.216(d), and 19 CFR 351.221(c)(3)(ii), to determine that the new Dongkuk Steel is the successor-in-interest to the former Dongkuk Steel and is entitled to the cash deposit rate currently in effect for the former Dongkuk Steel.²

¹ See Notice of Amendment of Final Determinations of Sales at Less Than Fair Value and Antidumping Duty Orders: Certain Cut-To-Length Carbon-Quality Steel Plate Products from France, India, Indonesia, Italy, Japan and the Republic of Korea, 65 FR 6585 (February 10, 2000) (Order).

² See Dongkuk Steel's Letter, “Request for Changed Circumstances Review and Successor-in-Interest Determination,” dated July 14, 2023 (CCR Request).

The new Dongkuk Steel explained that it requested a CCR because the former Dongkuk Steel spun-off its two business units in a reorganization in which new Dongkuk Steel, and a new operating entity, Dongkuk Coated Metal Co., Ltd. (Dongkuk CM) now operate as subsidiaries of Dongkuk Holdings Co., Ltd. (Dongkuk Holdings).³ Pursuant to the reorganization, all assets, liabilities, rights, and obligations as well as any intangible rights of proprietary nature (including, but not limited to, licenses and permits, employment and contractual relationships, and litigations) of former Dongkuk Steel, were transferred to, and assumed by, post-spin-off Dongkuk Steel, Dongkuk CM, and Dongkuk Holdings.⁴ In addition, after the spin-off and reorganization, CTL plate operations conducted by the former Dongkuk Steel continued to be performed by the company under the same legal name.⁵ As a result, the new Dongkuk Steel explained that the spin-off and reorganization did not affect the management or internal organization structure, production, supplier relationships, or customer base of the CTL plate business.⁶

³ Id. at 2.

⁴ Id. at 3.

⁵ Id. at 7.

⁶ Id.

We did not receive comments from other interested parties concerning this request.

Scope of the Order

The merchandise covered by this Order is CTL plate. For a complete description of the scope of the Order, see the Preliminary Decision Memorandum.⁷

⁷ See Memorandum, “Decision Memorandum for Initiation and Preliminary Results of Changed Circumstances Review: Certain Cut-to-Length Carbon-Quality Steel Plate from the Republic of Korea,” dated concurrently with, and hereby adopted by, this notice (Preliminary Decision Memorandum).

Initiation of CCR

Pursuant to section 751(b)(1) of the Act, and 19 CFR 351.216, Commerce will conduct a CCR of an order upon receipt of information or a review request from an interested party for a review of an AD order which shows changed circumstances sufficient to warrant a review of the order. In the past, Commerce has used CCRs to address the applicability of cash deposit rates after there have been changes in the name or structure of a respondent, such as a merger or spinoff (“successor-in-interest” or “successorship” determinations).⁸ The information submitted by the new Dongkuk Steel supporting its claim to be the successor-in-interest to the former Dongkuk Steel demonstrates changed circumstances sufficient to warrant such a review.⁹ Therefore, in accordance with section 751(b)(1)(A) of the Act and 19 CFR 351.216(d) and (e), we are initiating a CCR based upon the information contained in the new Dongkuk Steel's request for a CCR.

⁸ See, e.g., Diamond Sawblades and Parts Thereof from the People's Republic of China: Initiation and Preliminary Results of Antidumping Duty Changed Circumstances Review, 82 FR 51606 (November 7, 2017), unchanged in Diamond Sawblades and Parts Thereof from the People's Republic of China: Final Results of Antidumping Duty Changed Circumstances Review, 82 FR 60177 (December 19, 2017).

⁹ See 19 CFR 351.216(d).

Preliminary Results of Review

Section 351.221(c)(3)(ii) of Commerce's regulations permits Commerce to combine the notice of initiation of a CCR and the notice of preliminary results if Commerce concludes that expedited action is warranted.¹⁰ In this instance, because the record contains information necessary to make a preliminary finding, we find that expedited action is warranted and have combined the notice of initiation and the notice of preliminary results.¹¹

¹⁰ See 19 CFR 351.221(c)(3)(ii); see also Certain Pasta from Italy: Initiation and Preliminary Results of Antidumping Duty Changed Circumstances Review, 80 FR 33480, 33480-41 (June 12, 2015) (Pasta from Italy Preliminary Results), unchanged in Certain Pasta from Italy: Final Results of Changed Circumstances Review, 80 FR 48807 (August 14, 2015) (Pasta from Italy Final Results).

¹¹ See, e.g., Pasta from Italy Preliminary Results, 80 FR at 33480-41, unchanged in Pasta from Italy Final Results, 80 FR at 48807.

In this CCR, pursuant to section 751(b) of the Act, Commerce conducted a successor-in-interest analysis. In making a successor-in-interest determination, Commerce examines several factors, including, but not limited to, changes in the following: (1) ownership and management; (2) production facilities; (3) supplier relationships; and (4) customer base.¹² While no single factor or combination of factors will necessarily provide a dispositive indication of a successor-in-interest relationship, generally, Commerce will consider the new company to be the successor to the previous company if the new company's resulting operation is not materially dissimilar to that of its predecessor.¹³ If Commerce determines the new company's operation is not materially dissimilar to that of its predecessor, Commerce may assign the new company the predecessor's cash deposit rate.¹⁴

¹² See, e.g., Heavy Walled Rectangular Welded Carbon Steel Pipes and Tubes from Turkey: Notice of Initiation and Preliminary Results of Changed Circumstances Review, 86 FR 70444 (December 10, 2021), unchanged in Heavy Walled Rectangular Welded Carbon Steel Pipes and Tubes from Turkey: Final Results of Changed Circumstances Review, 87 FR 3763 (January 25, 2022).

¹³ Id.

¹⁴ Id.; see also Notice of Final Results of Changed Circumstances Antidumping Duty Administrative Review: Polychloroprene Rubber from Japan, 67 FR 58, 59 (January 2, 2002); Ball Bearings and Parts Thereof from France: Final Results of Changed-Circumstances Review, 75 FR 34688, 34689 (June 18, 2010); and Circular Welded Non-Alloy Steel Pipe from the Republic of Korea; Preliminary Results of Antidumping Duty Changed Circumstances Review, 63 FR 14679 (March 26, 1998), unchanged in Circular Welded Non-Alloy Steel Pipe from Korea; Final Results of Antidumping Duty Changed Circumstances Review, 63 FR 20572 (April 27, 1998) (in which Commerce found that a company which only changed its name and did not change its operations is a successor-in-interest to the company before it changed its name).

In accordance with 19 CFR 351.216, we preliminarily determine that the new Dongkuk Steel is the successor-in-interest to the former Dongkuk Steel. Record evidence, as submitted by the new Dongkuk Steel, indicates that the new Dongkuk Steel operates as essentially the same business entity as the former Dongkuk Steel with respect to the subject merchandise.¹⁵

¹⁵ See CCR Request.

For the complete successor-in-interest analysis, see the Preliminary Decision Memorandum. A list of the topics discussed in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Public Comment

In accordance with 19 CFR 351.309(c)(1)(ii), interested parties may submit case briefs not later than 14 days after the date of publication of this notice.¹⁶ Rebuttal briefs, limited to issues raised in the case briefs, may be filed no later than seven days after the case briefs, in accordance with 19 CFR 351.309(d). Parties who submit case or rebuttal briefs are encouraged to submit with each argument: (1) a statement of the issue; (2) a brief summary of the argument; and (3) a table of authorities.¹⁷

¹⁶ Commerce is exercising its discretion under 19 CFR 351.309(c)(1)(ii) to alter the time limit for the filing of case briefs.

¹⁷ See 19 CFR 351.309(c)(2).

Pursuant to 19 CFR 351.310(c), interested parties who wish to request a hearing must submit a written request via ACCESS within 14 days of publication of this notice.¹⁸ Hearing requests should contain: (1) the party's name, address, and telephone number; (2) the number of participants; and (3) a list of issues to be discussed. Oral presentations at the hearing will be limited to issues raised in the briefs. If a request for a hearing is made, parties will be notified of the time and date for the hearing, in accordance with 19 CFR 351.310(d).

¹⁸ Commerce is exercising its discretion under 19 CFR 351.310(c) to alter the time limit for requesting a hearing.

All submissions are to be filed electronically using ACCES. An electronically filed document must be received successfully in its entirety by ACCESS by 5:00 p.m. Eastern Time on the established deadline.¹⁹ Note that Commerce has temporarily modified certain of its requirements for serving documents containing business proprietary information, until further notice.²⁰

¹⁹ See 19 CFR 351.303(b).

²⁰ See Temporary Rule Modifying AD/CVD Service Requirements Due to COVID-19; Extension of Effective Period, 85 FR 41363 (July 10, 2020).

Final Results of Review

Should our final results remain unchanged from these preliminary results, we will instruct U.S. Customs and Border Protection to assign entries of subject merchandise produced or exported by new Dongkuk Steel the AD cash deposit rate applicable to former Dongkuk Steel.

Consistent with 19 CFR 351.216(e), we will issue the final results of this CCR no later than 270 days after the date on which this review was initiated, or within 45 days if all parties agree to our preliminary finding.

Notification to Interested Parties

This notice is published in accordance with sections 751(b)(1) and 777(i) of the Act and 19 CFR 351.216(b), 351.221(b) and 351.221(c)(3).

Dated: August 23, 2023.
Abdelali Elouaradia,
Deputy Assistant Secretary for Enforcement and Compliance.

Appendix—List of Topics Discussed in the Preliminary Decision Memorandum

I. Summary

II. Background

III. Scope of the Order

IV. Initiation and Preliminary Results of Changed Circumstances Review

V. Successor-in-Interest Determination

VI. Recommendation

[FR Doc. 2023-18706 Filed 8-29-23; 8:45 am]

BILLING CODE 3510-DS-P